DEPARTMENT OF LABOR

Employment and Training Administration

Comment Request for Extension of Information Collection With Revisions: Foreign Labor Certification Quarterly Activity Report

AGENCY: Employment and Training Administration, Labor.

ACTION: 60-Day notice of information collection under review: ETA Form 9127, Foreign Labor Certification Quarterly Activity Report; OMB Control Number 1205-0457.

SUMMARY: The Department of Labor (Department), as part of its continuing effort to reduce paperwork and respondent burden, conducts a pre-clearance consultation to provide the public and Federal agencies with an opportunity to comment on proposed and/or continuing collections of information in accordance with the Paperwork Reduction Act of 1995 (PRA), 44 U.S.C. 3506(c)(2)(A). The Department undertakes this consultation to ensure that requested data can be provided in the desired format, reporting burden (time and financial resources) is minimized, collection instruments are clearly understood, and the impact of collection requirements on respondents can be properly assessed. Through this notice, the Employment and Training Administration (ETA) is soliciting comments concerning the revision of the approved information collection, Office of Management and Budget (OMB) Control Number 1205-0457, containing ETA Form 9127—Foreign Labor Certification Quarterly Activity Report and instructions. The ETA Form 9127 solicits information from State Workforce Agencies (SWAs) who are recipients of foreign labor certification grants about program-related activities performed by SWA staff in accordance with the specific fiscal year annual plans. This information collection is set to expire on May 31, 2012.

DATES: Please submit written comments to the office listed in the addresses section below on or before May 29, 2012.

ADDRESSES: William L. Carlson, Ph.D., Administrator, Office of Foreign Labor Certification, U.S. Department of Labor, Room C-4312, 200 Constitution Ave. NW., Washington, DC 20210. Comments may also be submitted by fax at (202) 693-2768; or by email to ETA.OFLC.Forms@dol.gov, subject line: Revised ETA Form 9127.

A copy of the proposed information collection request (ICR) can be obtained by contacting the office listed above by phone at (202) 693-3010 (this is not a toll-free number). Individuals with hearing or speech impairments may access the telephone number above via TTY by calling the toll-free Federal Information Relay Service at 1-877-889-5627 (TTY/TDD) or by sending an email to ETA.OFLC.Forms@dol.gov, subject line: ETA Form 9127 ICR copy.

SUPPLEMENTARY INFORMATION:

I. Background

Under the foreign labor certification programs administered by ETA, SWAs are funded through annual reimbursable grants to conduct certain activities which support the processing of applications for temporary labor certification filed by United States (U.S.) employers seeking to hire foreign workers in the H-2B or H-2A visa categories to perform agricultural or nonagricultural services or labor. These activities include reviewing and transmitting through the intrastate and interstate job clearance systems job orders submitted by employers to recruit U.S. workers, conducting H-2A prevailing wage and prevailing practice surveys, and performing H-2A related housing inspections of facilities offered to agricultural workers.

The information pertaining to the performance of these functions by the SWAs is currently collected on the OMB approved ETA Form 9127 and is used by Department staff to monitor foreign labor certification activities performed by SWAs. The Department is seeking to revise the current information collection related to the ETA Form 9127 to cover information collected by SWAs to determine prevailing, normal, accepted or common employment practices for a specific occupational classification by either formally surveying employers' prevailing practices or by conducting “ad hoc” surveys. 20 CFR part 655, Subpart B. The SWA survey information is used by the Department to ensure that an H-2A employer's job qualifications and requirements are consistent with the normal and accepted job qualifications required by employers who do not use H-2A workers in same or comparable occupations and crops, and that the H-2A employer's employment practices reflect the prevailing employment practices in the area of intended employment.

This extension of the ETA Form 9127 also includes revisions to SWA reporting requirements which correspond to recent changes in the distribution of foreign labor certification activities between ETA and SWAs.

Upon the approval of the extension and revisions of this currently approved information collection, the Department will continue to use the data collected to: (1) Monitor the number of job orders processed; and (2) Track the number of agricultural prevailing wage and practice surveys conducted and housing inspections made. This information is used for formulating budget estimates for both State and Federal workloads, and for monitoring a State's performance against the grants and State annual plans.

II. Review Process

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Revision of a Currently Approved Information Collection.

Title: Foreign Labor Certification Quarterly Activity Report.

OMB Number: 1205-0457.

Affected Public: State, local or tribal governments and private sector—business or other for-profits.

Form(s): ETA Form 9127; Employment Practice Surveys.

Total Annual Respondents: 11,054.

Annual Frequency: Quarterly (ETA Form 9127); Annual and Ad Hoc (Employment Practice Surveys).

Total Annual Responses: 11,216.

Average Time per Response: 2 hours (ETA Form 9127); 30 minutes (Employment Practice Surveys).

Estimated Total Annual Burden Hours: 432 hours (ETA Form 9127); 5,738 hours (Employment Practice Surveys).

Total Annual Burden Cost for Respondents: $12,960 (ETA Form 9127); $172,125 (Employment Practice Surveys).

Comments submitted in response to this comment request will be summarized and/or included in the request for OMB approval of the ICR; they will also become a matter of public record.

Signed in Washington, DC, this 21st day of March 2012.
Jane Oates,
Assistant Secretary, Employment and Training Administration.

[FR Doc. 2012-7288 Filed 3-26-12; 8:45 am]

BILLING CODE 4510-FP-P